DEPARTMENT OF HEALTH AND HUMAN SERVICES

Centers for Disease Control and Prevention

Multi-Agency Informational Meeting Concerning Compliance With the Federal Select Agent Program; Public Webcast

AGENCY: Centers for Disease Control and Prevention (CDC), Department of Health and Human Services (HHS).

ACTION: Notice of rescheduled public webcast.

SUMMARY: The HHS/CDC's Division of Select Agents and Toxins (DSAT) and the U.S. Department of Agriculture's Animal and Plant Health Inspection Service, Agriculture Select Agent Services (AgSAS) are jointly charged with the regulation of the possession, use and transfer of biological agents and toxins that have the potential to pose a severe threat to public, animal or plant health or to animal or plant products (select agents and toxins). This joint effort constitutes the Federal Select Agent Program. The purpose of the webcast is to provide guidance and information related to the Federal Select Agent Program for interested individuals.

DATES: The webcast, which was initially scheduled for Wednesday, February 8, 2017, is rescheduled for Friday, April 28, 2017 from 12 p.m. to 4 p.m. Eastern Daylight Time. Participants who have already registered for the webcast will not need to re-submit registration requests for the new date. All others who wish to join the webcast should register by April 14, 2017. Registration instructions can be found on the Web site http://www.selectagents.gov.

ADDRESSES: The webcast will be broadcast from CDC, 1600 Clifton Road NE., Atlanta, GA 30329. This will only be produced as a webcast; therefore, no accommodations will be provided for in-person participation.

FOR FURTHER INFORMATION CONTACT: CDC: Ms. Diane Martin, DSAT, Office of Public Health Preparedness and Response, CDC, 1600 Clifton Road NE., MS A-46, Atlanta, GA 30329; phone: 404-718-2000; email: lrsat@cdc.gov. APHIS: Dr. Charles Divan, AgSAS, APHIS, 4700 River Road, Unit 2, Riverdale, MD 20737; phone: 301-851-3300 (option 3); email: AgSAS@aphis.usda.gov.

SUPPLEMENTARY INFORMATION: The public webcast, initially scheduled for Wednesday, February 8, 2017, and rescheduled for Friday, April 28, 2017, is an opportunity for the affected community (i.e., registered entity responsible officials, alternate responsible officials, and entity owners) and other interested individuals to obtain specific regulatory guidance and information concerning biosafety, security and incident response issues related to the Federal Select Agent Program.

Representatives from the Federal Select Agent Program will be present during the webcast to address questions and concerns from the web participants.

Participants who have already registered for the February date will not need to re-submit registration requests for the new date. Individuals that have not registered and want to participate in the webcast should complete their registration online by April 14, 2017. The registration instructions are located on this Web site: http://www.selectagents.gov.

Dated: March 15, 2017.
Sandra Cashman,
Executive Secretary, Centers for Disease Control and Prevention.

[FR Doc. 2017-05952 Filed 3-24-17; 8:45 am]

BILLING CODE 4163-18-P